DEPARTMENT OF COMMERCE

National Institute of Standards and Technology

Agency Information Collection Activities; Submission to the Office of Management and Budget (OMB) for Review and Approval; Comment Request; National Institute for Standards and Technology NIST Center for Neutron Research (NCNR) Information Management System (IMS) and Summer School Application

AGENCY: National Institute of Standards and Technology (NIST), Commerce.

ACTION: Notice of information collection; request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 13, 2021.

ADDRESSES: Interested persons are invited to submit written comments by mail to Maureen O'Reilly, Management Analyst, NIST, at PRAcomments@doc.gov. Please reference OMB Control Number 0693-0081 in the subject line of your comments. Do not submit Confidential Business Information or otherwise sensitive or protected information.

FOR FURTHER INFORMATION CONTACT: Requests for additional information or specific questions related to collection activities should be directed to Siddharth Khosla, IT Specialist, NIST, 100 Bureau Drive, Stop 6100, Gaithersburg, MD 20899, 301-975-4640, siddharth.khosla@nist.gov.

SUPPLEMENTARY INFORMATION:

I. Abstract

The NIST Center for Neutron Research (NCNR) Information Management System (IMS) is a public facing, web-based application to collect, manage and report operational data related to NCNR's role as a unique national user facility which was chartered to serve the nation's scientific community by providing unique experimental apparatus for scientific studies using neutron scattering. In order to fulfill that mission, NCNR established a complex business process to fairly distribute available scientific resources to prospective external users, outlined by the following steps:

• Registration of NCNR users

• Collection of scientific experiment proposals

• Regularly scheduled peer review of said proposals

• Merit-based award of available experimental resources

• Experiment date scheduling for selected projects (instrument scheduling)

• Collection and management of data required by the NCNR site access protocol

• Managing the Health Physics training of arriving scientists

• Coordination of administrative data

• Collection of data in support of related activities such as NCNR Summer School for facility users

• Management of the research results such as collected data, and subsequent publications

• Numerous reporting functions used to evaluate and manage the NCNR activities.

II. Method of Collection

Information will be collected electronically through the internet.

III. Data

OMB Control Number: 0693-0081.

Form Number(s): None.

Type of Review: Regular submission, extension of a current information collection.

Affected Public: Individuals or households.

Estimated Number of Respondents: 2,000.

Estimated Time per Response: 1 hour.

Estimated Total Annual Burden Hours: 2,000 hours.

Estimated Total Annual Cost to Public: $0.

Respondent's Obligation: Voluntary.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-12368 Filed 6-11-21; 8:45 am]

BILLING CODE 3510-13-P